DEPARTMENT OF TRANSPORTATION

Office of the Secretary of Transportation

Adjustment to Rail Passenger Transportation Liability Cap

AGENCY: Office of the Secretary of Transportation (OST), Department of Transportation (DOT).

ACTION: Notice.

SUMMARY: This notice details the adjustment made to the rail passenger transportation liability cap as required by section 11415 of the Fixing America's Surface Transportation (FAST) Act (December 4, 2015). Pursuant to the FAST Act, the rail passenger transportation liability cap is raised from $294,278,983 to $322,864,228.

DATES: This adjustment will go into effect 30 days after February 25, 2021.

FOR FURTHER INFORMATION CONTACT: For further information regarding this notice, please contact Stephen O'Connor, Office of Policy and Planning, Federal Railroad Administration at stephen.o'connor@dot.gov or (202) 493-6325.

SUPPLEMENTARY INFORMATION: The Department of Transportation is publishing the inflation adjusted index factors for the rail passenger transportation liability cap under 49 U.S.C. 28103(a)(2), as directed by section 11415 of the FAST Act. The index methodology ensures that the aggregate allowable awards to all rail passengers, against all defendants, for all claims, including claims for punitive damages, arising from a single accident or incident is based on current dollars and is adjusted for inflation from the $200,000,000 cap that went into effect on December 2, 1997.

Under the FAST Act, the index is adjusted to the date of enactment of the FAST Act using the Bureau of Labor Statistics Consumer Price Index—All Urban Consumers.

The index was based on the liability cap established on December 2, 1997, and the last full month prior to the enactment of the FAST Act on December 4, 2015. The FAST Act also directs the Secretary to update the liability cap every fifth year after the date of enactment. The table below shows the Index and inflator the Federal Railroad Administration used to calculate an inflation adjusted amount of $322,864,228.

Passenger Liability Cap Inflation Adjusted Index and Inflation Factor
Month | Index | Inflator | Liability cap
December 1997 | 161.30 | 1.00 | $200,000,000
October 2020 | 260.39 | 1.61 | 322,864,228

The adjustment of the rail passenger transportation liability cap to $322,864,228 shall be effective 30 days after the date of publication of this notice.

Issued in Washington, DC, on February 22, 2021.
Peter Paul Montgomery Buttigieg,
Secretary.

[FR Doc. 2021-03886 Filed 2-24-21; 8:45 am]

BILLING CODE 4910-06-P